DEPARTMENT OF HOUSING AND URBAN DEVELOPMENT

[Docket No. FR-5601-N-32]

Federal Property Suitable as Facilities To Assist the Homeless

AGENCY: Office of the Assistant Secretary for Community Planning and Development, HUD.

ACTION: Notice.

SUMMARY: In accordance with 24 CFR part 581 and section 501 of the Stewart B. McKinney Homeless Assistance Act (42 U.S.C. 11411), as amended, HUD publishes a weekly Federal Register notice listing unutilized, underutilized, excess, and surplus Federal property reviewed by HUD for suitability for use to assist the homeless. HUD generally publishes this weekly report each Friday. Today's notice announces that due to the size of HUD's next report, the Office of the Federal Register has informed HUD that it cannot accommodate HUD's request to schedule publication of the report on Friday, August 17, 2012. As a result, HUD's next report listing unutilized, underutilized, excess, and surplus Federal property will be published in the Federal Register on Wednesday, August 29, 2012.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD publishes a weekly notice in the Federal Register listing Federal buildings and other real property that HUD has reviewed for suitability for use to assist the homeless. The properties are reviewed using information provided to HUD by Federal landholding agencies regarding unutilized and underutilized buildings and real property controlled by such agencies or by GSA regarding its inventory of excess or surplus Federal property. HUD's weekly notice is also published in order to comply with the December 12, 1988 Court Order in National Coalition for the Homeless v. Veterans Administration, No. 88-2503-OG (D.D.C.).

Dated: August 9, 2012.
Ann Marie Oliva,
Deputy Assistant Secretary for Special Needs (Acting).

[FR Doc. 2012-20191 Filed 8-16-12; 8:45 am]

BILLING CODE 4210-67-P